DEPARTMENT OF AGRICULTURE

Commodity Credit Corporation

Announcement of the Foreign Market Development Cooperator Program for Fiscal Year 2002

Correction

In notice document 00-33138 beginning on page 82314 in the issue of Thursday, December 28, 2000, make the following correction:

On page 82314, in the third column, in the second line from the bottom, “ÿ7Esue” should read “ÿ7Euse”ÿ7E.

[FR Doc. C0-33138 Filed 1-11-01; 8:45 am]

BILLING CODE 1505-01-D